DEPARTMENT OF TRANSPORTATION

Federal Aviation Administration

Notice of Intent To Rule on a Request To Release Surplus Property at the Daniel Field Airport, Augusta, Georgia

AGENCY: Federal Aviation Administration (FAA), DOT.

ACTION: Notice and request for comment.

SUMMARY: Under the provisions of Title 49, U.S.C. Section 47151(d), notice is being given that the Federal Aviation Administration (FAA) is considering a request from the City of Augusta to waive the requirement that 0.13 acres of surplus property located at the Daniel Field Airport be used for aeronautical purposes. Currently, the ownership of the property provides for the protection of FAR Part 77 surfaces and compatible land use which would continue to be protected with deed restrictions required in the transfer of land ownership.

DATES: Comments must be received on or before December 2, 2019.

ADDRESSES: Comments on this application may be mailed or delivered to the FAA at the following address: Rob Rau, Federal Aviation Administration, Atlanta Airports District Office, 1701 Columbia Ave., Ste. 220, College Park, GA 30337.

In addition, one copy of any comments submitted to the FAA must be mailed to: David Fields, Chairman, General Aviation Commission, City of Augusta, 1775 Highland Avenue, Augusta, GA 30904.

FOR FURTHER INFORMATION CONTACT: Rob Rau, Federal Aviation Administration, Atlanta Airports District Office, 1701 Columbia Ave., Ste. 220, College Park, GA 30337, robert.rau@faa.gov. The request to release property may be reviewed, by appointment, in person at this same location.

SUPPLEMENTARY INFORMATION: The FAA is reviewing a request to release 0.13 acres of surplus property at the Daniel Field Airport (DNL) under the provisions of 49 U.S.C. 47151(d). On October 11, 2019, the City of Augusta (with concurrence from Georgia Department of Transportation) requested the FAA release 0.13 acres of surplus property for a permanent utility easement. The FAA has determined that the proposed property release at the Daniel Field Airport, as submitted by the City of Augusta, meets the procedural requirements of the FAA and release of the property does not and will not impact future aviation needs at the airport. The FAA may approve the request, in whole or in part, no sooner than thirty days after the publication of this notice. In accordance with 49 U.S.C. 47107(c)(2)(B)(i) and (iii), the airport will receive fair market value for the easement, which will be subsequently reinvested in another eligible airport improvement project for aviation facilities at the Daniel Field Airport.

Any person may inspect, by appointment, the request in person at the FAA office listed above under FOR FURTHER INFORMATION CONTACT. In addition, any person may, upon appointment and request, inspect the application, notice and other documents determined by the FAA to be related to the application in person at the Daniel Field Airport.

Issued in Atlanta, GA, on October 23, 2019.
Larry F. Clark, Manager,
Atlanta Airports District Office.

[FR Doc. 2019-23949 Filed 10-31-19; 8:45 am]

BILLING CODE 4910-13-P